OFFICE OF THE UNITED STATES TRADE REPRESENTATIVE

[Docket No. WTO/DS324]

WTO Dispute Settlement Proceeding Regarding United States—Provisional Antidumping Measures on Shrimp From Thailand

AGENCY: Office of the United States Trade Representative.

ACTION: Notice; request for comments.

SUMMARY: The Office of the United States Trade Representative (“USTR”) is providing notice that on December 9, 2004, Thailand requested consultations with the United States under the Marrakesh Agreement Establishing the World Trade Organization (“WTO Agreement”) concerning the imposition of provisional antidumping measures on shrimp from Thailand. That request may be found at http://www.wto.org contained in a document designated as WT/DS324/1. USTR invites written comments from the public concerning the issues raised in this dispute.

DATES: Although USTR will accept any comments received during the course of the dispute settlement proceedings, comments should be submitted on or before January 15, 2005 to be assured of timely consideration by USTR.

ADDRESSES: Comments should be submitted (i) electronically, to FR0501@ustr.eop.gov, Attn: “Thailand Shrimp Provisional AD Dispute (DS324)” in the subject line, or (ii) by fax, to Sandy McKinzy at (202) 395-3640. For documents sent by fax, USTR requests that the submitter provide a confirmation copy to the electronic mail address listed above.

FOR FURTHER INFORMATION CONTACT: Jeff Weiss, Assistant General Counsel, Office of the United States Trade Representative, 600 17th Street, NW., Washington, DC 20508, (202) 395-4498.

SUPPLEMENTARY INFORMATION: Section 127(b) of the Uruguay Round Agreements Act (“URAA”) (19 U.S.C. 3537(b)(1)) requires that notice and opportunity for comment be provided after the United States submits or receives a request for the establishment of a WTO dispute settlement panel. Consistent with this obligation, but in an effort to provide additional opportunity for comment, USTR is providing notice that consultations have been requested pursuant to the WTO Understanding on Rules and Procedures Governing the Settlement of Disputes (“DSU”). If such consultations should fail to resolve the matter and a dispute settlement panel is established pursuant to the DSU, such panel, which would hold its meetings in Geneva, Switzerland, would be expected to issue a report on its findings and recommendations within six to nine months after it is established.

Major Issues Raised by Thailand

On August 4, 2004, the Department of Commerce published in the Federal Register notice of its affirmative preliminary less-than-fair-value (“LTFV”) determination in an investigation concerning certain frozen and canned warm water shrimp from Thailand (69 Fed. Reg. 47,100). That notice contains the estimated margins of LTFV sales, as provided in section 733 of the Tariff Act of 1930, as amended.

In its request for consultations, Thailand alleges that the United States “through its use of “zeroing” * * * failed to make a fair comparison between the export price and the normal value and calculated distorted margins of dumping,” and therefore violated Articles 2.4 and 2.4.2 of the AD Agreement; that its use of “adverse facts available” to determine normal values for one Thai exporter was inconsistent with Articles 6.8 and 6.13 and paragraphs 3, 5, 6, and 7 of Annex II of the AD Agreement; and that the U.S. “failure to make due allowances * * * for differences that affected price comparability between export prices and normal values for the Thai exporters, including differences relating to levels of trade and duty drawback payments” also was inconsistent with Article 2.4 of the AD Agreement.

Further, Thailand's consultation request states that, as a result of “the foregoing methodologies, calculations, comparisons, and determinations,” the United States has acted inconsistently with Articles 1 and 7.1 of the AD Agreement and Article VI of the GATT 1994.

Public Comment: Requirements for Submissions

Interested persons are invited to submit written comments concerning the issues raised in this dispute. Persons may submit their comments either (i) electronically, to FR0501@ustr.eop.gov, Attn: “Thailand Shrimp Provisional AD Dispute (DS324)” in the subject line, or (ii) by fax to Sandy McKinzy at (202) 395-3640. For documents sent by fax, USTR requests that the submitter provide a confirmation copy to the electronic mail address listed above.

USTR encourages the submission of documents in Adobe PDF format, as attachments to an electronic mail. Interested persons who make submissions by electronic mail should not provide separate cover letters; information that might appear in a cover letter should be included in the submission itself. Similarly, to the extent possible, any attachments to the submission should be included in the same file as the submission itself, and not as separate files.

A person requesting that information contained in a comment submitted by that person be treated as confidential business information must certify that such information is business confidential and would not customarily be released to the public by the submitter. Confidential business information must be clearly designated as such and the submission must be marked “BUSINESS CONFIDENTIAL” at the top and bottom of the cover page and each succeeding page.

Information or advice contained in a comment submitted, other than business confidential information, may be determined by USTR to be confidential in accordance with section 135(g)(2) of the Trade Act of 1974 (19 U.S.C. 2155(g)(2)). If the submitter believes that information or advice may qualify as such, the submitter—

(1) Must clearly so designate the information or advice;

(2) Must clearly mark the material as “SUBMITTED IN CONFIDENCE” at the top and bottom of the cover page and each succeeding page; and

(3) Is encouraged to provide a non-confidential summary of the information or advice.

Pursuant to section 127(e) of the URAA (19 U.S.C. 3537(e)), USTR will maintain a file on this dispute settlement proceeding, accessible to the public, in the USTR Reading Room, which is located at 1724 F Street, NW., Washington, DC 20508. The public file will include non-confidential comments received by USTR from the public with respect to the dispute; if a dispute settlement panel is convened, the U.S. submissions to that panel, the submissions, or non-confidential summaries of submissions, to the panel received from other participants in the dispute, as well as the report of the panel; and, if applicable, the report of the Appellate Body. An appointment to review the public file (Docket No. WT/DS-324, Thailand Shrimp Provisional AD Dispute) may be made by calling the USTR Reading Room at (202) 395-6186. The USTR Reading Room is open to the public from 9:30 a.m. to noon and 1 p.m. to 4 p.m., Monday through Friday.

Bruce R. Hirsh,
Acting Assistant United States Trade Representative for Monitoring and Enforcement.

[FR Doc. 04-28627 Filed 12-29-04; 8:45 am]

BILLING CODE 3190-W5-P